DEPARTMENT OF ENERGY

Federal Energy Regulatory Commission

[Docket Nos.: RM01-8-000, ER02-2001-000]

Revised Public Utility Filing Requirements for Electric Quarterly Reports; Second Notice of Electric Quarterly Reports Users Group Meeting

November 20, 2006.

On November 8, 2006, the Federal Energy Regulatory Commission (Commission) announced a meeting of the Electric Quarterly Reports (EQR) Users Group to be held Wednesday, November 29, 2006, in the Commission Meeting Room at 888 First Street, NE., Washington, DC and via teleconference. The meeting will run from 9 a.m. to 5 p.m. (EST).

During the meeting, Commission staff and EQR users will discuss the staff draft of the EQR data dictionary, which is now available on the EQR Users Group and Workshops page on FERC.gov at http://www.ferc.gov/docs-filing/eqr/groups-workshops.asp. The revised final agenda for the conference is attached.

All interested persons are invited to attend or call in for the meeting. Those interested in participating were asked to do so by registering no later than November 20, 2006, on the FERC Web site at https://www.ferc.gov/whats-new/registration/eqr-11-29-form.asp. There is no registration fee. Information for the meeting will be sent to registered participants.

As previously announced, interested persons wishing to file comments may do so under the above-captioned Docket Numbers. Those filings will be available at the Commission or may be viewed on the Commission's Web site at http://www.ferc.gov, using the “eLibrary” link. Enter the docket number excluding the last three digits in the docket number field to access the document. For assistance accessing document on eLibrary, contact FERC Online Support at FERCOnlineSupport@ferc.gov or via phone at (866) 208-3676 (toll-free). For TTY, contact (202) 502-8659.

For additional information about the meeting, please contact Jennifer Newman of FERC's Office of Enforcement at (202) 502-6576 or by e-mail at eqr@ferc.gov.

Transcripts of the meeting will be available immediately for a fee from Ace Reporting Company (202-347-3700 or 1-800-336-6646). They will be available for free on the Commission's eLibrary system and on the events calendar approximately one week after the meeting.

FERC conferences and meetings are accessible under section 508 of the Rehabilitation Act of 1973. For accessibility accommodations please send an e-mail to accessibility@ferc.gov or call toll free (866) 208-3372 (voice) or 202-502-8659 (TTY), or send a fax to 202-208-2106 with the required accommodations.

Magalie R. Salas,
Secretary.

Attachment: Revised Meeting Agenda

Agenda, EQR Users Group Meeting

Commission Meeting Room

Wednesday, November 29, 2006

9-9:15 a.m. Welcome, Introductions, Logistics.

9:15-11 a.m. Update on status of mapping ISO/RTO settlement reports for EQR reporting from various ISO/RTOs.

Presentations by Panelists:

Mike Patterson, Business Analyst, New York ISO.

Jeff Evans, Lead Settlement Design Analyst, California ISO (via telephone).

Chris Parent, Supervisor, Business Analysis for the Market Analysis and Settlements Group, ISO-New England (via telephone).

Ken Donald, Settlements Lead and Al Borno, Settlements Lead, Midwest ISO (via telephone).

Harry Dessender, Manager, Market Settlement Services, PJM Interconnection (invited).

11-11:15 Break.

11:15-12 noon Data Dictionary: ID Data.

12-1 p.m. Lunch.

1-2:30 p.m. Data Dictionary: Contract Data.

2:30-2:45 p.m. Break.

2:45-4:15 p.m. Data Dictionary: Transaction Data.

4:15-4:45 p.m. New Business.

4:45-5 p.m. Review and Wrap-up.

[FR Doc. E6-20184 Filed 11-28-06; 8:45 am]

BILLING CODE 6717-01-P